DEPARTMENT OF AGRICULTURE

Commodity Credit Corporation

Domestic Sugar Program—2005-Crop Cane Sugar and Sugar Beet Marketing Allotments and Company Allocations

AGENCY: Commodity Credit Corporation, USDA.

ACTION: Notice.

SUMMARY: This notice sets forth the establishment and adjustments to the sugar overall allotment quantity (OAQ) for the 2005-crop year (FY 2006) which runs from October 1, 2005 through September 30, 2006. Although CCC already announced all of the information in this notice, CCC is statutorily required to publish in the Federal Register determinations establishing or adjusting sugar marketing allotments. CCC set the 2005-crop OAQ to 8.600 million short tons raw value (STRV) on August 12, 2005. On August 19, 2005, CCC allocated the cane sector allotment to cane-producing States and cane processors and reassigned an expected cane supply shortfall of 120,000 STRV to imports. On September 29, 2005, CCC increased the OAQ to 8.825 million STRV and reassigned another 276,000 STRV of expected cane shortfall to imports. The next day, CCC announced the FY 2006 beet company allocations. On December 2, 2006, CCC reassigned another 450,000 STRV of an updated cane supply shortfall to imports. On February 2, 2006, CCC increased the OAQ to 9.350 million STRV and reassigned 500,000 STRV of the anticipated domestic supply deficit to imports. The revised FY 2006 cane state allotments and cane and beet sugar processor allocations were announced on March 22, 2006.

ADDRESSES: Barbara Fecso, Dairy and Sweeteners Analysis Group, Economic Policy and Analysis Staff, Farm Service Agency, USDA, 1400 Independence Avenue, SW., STOP 0516, Washington, DC 20250-0516; telephone (202) 720-4146; FAX (202) 690-1480; e-mail: barbara.fecso@wdc.usda.gov.

FOR FURTHER INFORMATION CONTACT: Barbara Fecso at (202) 720-4146.

SUPPLEMENTARY INFORMATION: Section 359b(b)(1) of the Agricultural Adjustment Act of 1938, as amended, (7 U.S.C. 1359bb(a)(1)) requires the Secretary to establish, by the beginning of each crop year, an appropriate allotment for the marketing by processors of sugar processed from sugar beets and from domestically produced sugarcane at a level the Secretary estimates will result in no forfeitures of sugar to the CCC under the loan program.

When CCC announced an 8.600 million ton OAQ in August 2005, it noted the existence of sugar market uncertainties and that the OAQ could be adjusted as warranted. On August 19, 2005, when cane processor allocations were first announced, CCC determined that the cane sugar supply was insufficient to fill the cane sector allotment. As a result, CCC suspended Louisiana proportionate shares and reassigned 120,000 STRV to the FY 2006 raw sugar Tariff Rate Quota (TRQ).

On September 29, 2005, in response to preliminary damage estimates to Louisiana production from Hurricanes Katrina and Rita, CCC increased the FY 2006 OAQ another 225,000 tons. While this action released 122,288 STRV of domestic beet sugar stocks into the market, the cane sector carried a supply deficit which caused CCC to reassign 276,000 STRV to Mexican refined or raw imports.

On December 2, 2006, with domestic cane crop damages further compounded by Hurricane Wilma in Florida, CCC increased its forecast of the cane supply shortfall and reassigned another 450,000 STRV to imports. This was allocated between the WTO raw sugar TRQ (300,000 STRV) and the refined global, first-come, first-served TRQ (150,000 STRV). Since company-specific damages were not known then, CCC did not announce the impact of the reassignment on cane processors.

On February 2, 2006, CCC increased the OAQ to 9.350 million STRV and reassigned 500,000 STRV of expected supply shortfalls from both the beet (242,000 STRV) and cane (258,000 STRV) sectors evenly between the WTO raw sugar TRQ and the refined TRQ. CCC took these actions in response to a continuing tight supply resulting largely from the disastrous weather events in August, September, and October 2005.

Because Puerto Rico forecast zero production for the 2005 crop, whenever the OAQ was either set or changed, its allotment was immediately reassigned to the mainland states based on their respective shares of the cane sugar allotment. Hawaii did not receive a share of Puerto Rico's allocation because it was not expected to use all of its own allocation.

The established 2005-crop beet and cane sugar marketing allotments are listed in the following table, along with the subsequent adjustments:

FY 2006 Overall Beet/Cane Allotments and Allocations
Distribution | FY 2006 allotments as of 8/19/05 | 225 increase in OAQ on 9/30/05 | Reassignment to imports on 9/30/05 | Reassignment on 12/02/06 | Allotments/ Allocations as of 12/02/06 | Increase in OAQ on 2/2/06 | Reassignment on 2/2/06 | Total change from OAQ increases from last processor announcements | Total change from reassignments of 9/30/05, 12/2/06 and 2/2/06 | Reassignment of PNW reserve 3/3/06 | Allotments/ Allocations as of 3/22/06
Beet Sugar | 4,674,100 | 122,288 | 0 | 0 | 4,796,388 | 285,338 | −242,000 | 285,338 | −242,000 | 0 | 4,839,725
Cane Sugar | 3,805,900 | 102,713 | −276,000 | −450,000 | 3,182,613 | 239,663 | −258,000 | 342,375 | −984,000 | 0 | 3,164,275
WTO Raw Sugar TRQ | 120,000 | 0 | 0 | 300,000 | 420,000 | 0 | 250,000 | 0 | 550,000 | 0 | 670,000
Mexico TRQ Raw or Refined | 0 | 0 | 276,000 | 0 | 276,000 | 0 | 0 | 0 | 276,000 | 0 | 276,000
Refined TRQ (global first-come, first-served) | 0 | 0 | 0 | 150,000 | 150,000 | 0 | ¹ 250,000 | 0 | 400,000 | 0 | 400,000
Total OAQ | 8,600,000 | 225,000 | 0 | 0 | 8,825,000 | 525,000 | 0 | 627,713 | 0 | 0 | 9,350,000
Beet Processors' Marketing Allocations:
Amalgamated Sugar Co |  | 999,303 |  |  |  |  |  | 59,449 | 99,264 | 0 | 1,158,015
American Crystal Sugar Co |  | 1,715,584 |  |  |  |  |  | 110,046 | −223,608 | 129,096 | 1,731,118
Michigan Sugar Co |  | 482,017 |  |  |  |  |  | 28,675 | −43,662 | 0 | 467,030
Minn-Dak Farmers Co-op |  | 299,233 |  |  |  |  |  | 17,801 | −37,797 | 0 | 279,237
So. Minn Beet Sugar Co-op |  | 629,936 |  |  |  |  |  | 37,475 | 10,346 | 0 | 677,756
Western Sugar Co |  | 477,233 |  |  |  |  |  | 28,085 | −32,271 | 0 | 473,047
Wyoming Sugar Co |  | 63,985 |  |  |  |  |  | 3,806 | −14,271 | 0 | 53,521
PNW Allocation Held in Reserve |  | 129,096 |  |  |  |  |  | 0 | 0 | −129,096 | 0
Total Beet Sugar |  | 4,796,388 |  |  |  |  |  | 285,338 | −242,000 | 0 | 4,839,725
State Cane Sugar Allotments:
Florida | 1,908,516 |  |  |  |  |  |  | 184,019 | −646,742 |  | 1,445,792
Louisiana | 1,447,785 |  |  |  |  |  |  | 142,359 | −317,090 |  | 1,273,054
Texas | 180,000 |  |  |  |  |  |  | 15,997 | −15,572 |  | 180,425
Hawaii | 269,599 |  |  |  |  |  |  | 0 | −4,596 |  | 265,003
Puerto Rico | 0 |  |  |  |  |  |  | 0 | 0 |  | 0
Total Cane Sugar | 3,805,900 |  |  |  |  |  |  | 342,375 | −984,000 |  | 3,164,275
Cane Processors' Marketing Allocations:
Florida:
Florida Crystals | 792,262 |  |  |  |  |  |  | 75,765 | −360,906 |  | 507,121
Growers Co-op. of FL | 324,343 |  |  |  |  |  |  | 33,102 | −92,316 |  | 265,129
U.S. Sugar Corp | 791,911 |  |  |  |  |  |  | 75,151 | −193,520 |  | 673,542
Total | 1,908,516 |  |  |  |  |  |  | 184,019 | −646,742 |  | 1,445,792
Louisiana:
Alma Plantation | 155,960 |  |  |  |  |  |  | 13,551 | −38,208 |  | 131,302
Cajun Sugar Co-op | 146,915 |  |  |  |  |  |  | 14,395 | −36,683 |  | 124,626
Cora-Texas Mfg. Co | 140,000 |  |  |  |  |  |  | 13,223 | −222 |  | 153,001
Lafourche Sugars Corp | 89,804 |  |  |  |  |  |  | 7,754 | −24,483 |  | 73,075
Louisiana Sugarcane Co-op | 94,696 |  |  |  |  |  |  | 10,946 | −11,606 |  | 94,036
Lula Westfield, LLC | 175,393 |  |  |  |  |  |  | 16,811 | −23,985 |  | 168,219
M.A. Patout & Sons | 415,959 |  |  |  |  |  |  | 39,994 | −110,757 |  | 345,197
St. Mary Sugar Co-op | 130,962 |  |  |  |  |  |  | 14,500 | −39,211 |  | 106,250
So. Louisiana Sugars Co-op | 98,096 |  |  |  |  |  |  | 11,186 | −31,935 |  | 77,347
Total | 1,447,785 |  |  |  |  |  |  | 142,359 | −317,090 |  | 1,273,054
Texas:
Rio Grande Valley | 180,000 |  |  |  |  |  |  | 15,997 | −15,572 |  | 180,425
Hawaii:
Gay & Robinson, Inc | 54,699 |  |  |  |  |  |  | 0 | −61 |  | 54,638
Hawaiian Commercial & Sugar Company | 214,900 |  |  |  |  |  |  | 0 | −4,535 |  | 210,366
Total | 269,599 |  |  |  |  |  |  | 0 | −4,596 |  | 265,003
¹ Of this amount, 27,558 STRV to Canada, 65,421 to Mexico and 157,021 to global.

These actions apply to all domestic sugar marketed for human consumption in the United States from October 1, 2005, through September 30, 2006.

Signed in Washington, DC, on May 15, 2006.
Teresa C. Lasseter,
Executive Vice President, Commodity Credit Corporation.

[FR Doc. 06-4875 Filed 5-25-06; 8:45 am]

BILLING CODE 3410-05-P